DEPARTMENT OF TRANSPORTATION

Federal Aviation Administration

14 CFR Part 39

[Docket No. FAA-2013-0524; Directorate Identifier 2012-SW-084-AD]

RIN 2120-AA64

Airworthiness Directives; Eurocopter France Helicopters

AGENCY: Federal Aviation Administration (FAA), DOT.

ACTION: Notice of proposed rulemaking (NPRM).

SUMMARY: We propose to adopt a new airworthiness directive (AD) for Eurocopter France (Eurocopter) Model AS332C, AS332L, AS332L1, AS332L2, and EC225LP helicopters. This proposed AD would require visually inspecting each jettisonable emergency exit window panel (window) for sealant, and removing any sealant that exists in the window's extruded sections. This proposed AD is prompted by jettison tests during routine maintenance inspections that showed the windows failed to jettison. The proposed actions are intended to prevent failure of the windows to jettison, so helicopter occupants can exit the aircraft during an emergency.

DATES: We must receive comments on this proposed AD by August 19, 2013.

ADDRESSES: You may send comments by any of the following methods:

• Federal eRulemaking Docket: Go to http://www.regulations.gov. Follow the online instructions for sending your comments electronically.

• Fax: 202-493-2251.

• Mail: Send comments to the U.S. Department of Transportation, Docket Operations, M-30, West Building Ground Floor, Room W12-140, 1200 New Jersey Avenue SE., Washington, DC 20590-0001.

• Hand Delivery: Deliver to the “Mail” address between 9 a.m. and 5 p.m., Monday through Friday, except Federal holidays.

Examining the AD Docket

You may examine the AD docket on the Internet at http://www.regulations.gov or in person at the Docket Operations Office between 9 a.m. and 5 p.m., Monday through Friday, except Federal holidays. The AD docket contains this proposed AD, the economic evaluation, any comments received, and other information. The street address for the Docket Operations Office (telephone 800-647-5527) is in the ADDRESSES section. Comments will be available in the AD docket shortly after receipt.

For service information identified in this proposed AD, contact American Eurocopter Corporation, 2701 N. Forum Drive, Grand Prairie, TX 75052; telephone (972) 641-0000 or (800) 232-0323; fax (972) 641-3775; or at http://www.eurocopter.com/techpub. You may review the referenced service information at the FAA, Office of the Regional Counsel, Southwest Region, 2601 Meacham Blvd., Room 663, Fort Worth, Texas 76137.

FOR FURTHER INFORMATION CONTACT: Robert Grant, Aviation Safety Engineer, Safety Management Group, FAA, 2601 Meacham Blvd., Fort Worth, Texas 76137; telephone 817-222-5110; email robert.grant@faa.gov.

SUPPLEMENTARY INFORMATION:

Comments Invited

We invite you to participate in this rulemaking by submitting written comments, data, or views. We also invite comments relating to the economic, environmental, energy, or federalism impacts that might result from adopting the proposals in this document. The most helpful comments reference a specific portion of the proposal, explain the reason for any recommended change, and include supporting data. To ensure the docket does not contain duplicate comments, commenters should send only one copy of written comments, or if comments are filed electronically, commenters should submit only one time.

We will file in the docket all comments that we receive, as well as a report summarizing each substantive public contact with FAA personnel concerning this proposed rulemaking. Before acting on this proposal, we will consider all comments we receive on or before the closing date for comments. We will consider comments filed after the comment period has closed if it is possible to do so without incurring expense or delay. We may change this proposal in light of the comments we receive.

Discussion

The European Aviation Safety Agency (EASA), which is the Technical Agent for the Member States of the European Union, has issued EASA AD No. 2012-0152, dated August 13, 2012, to correct an unsafe condition for certain Eurocopter Model AS 332 C, AS 332 C1, AS 332 L, AS 332 L1, AS 332 L2 and EC 225 LP helicopters. EASA reports that during required maintenance checks, there have been problems jettisoning emergency exit windows. According to EASA, investigations on several windows showed sealant between the extrusion and the window. “This condition, if not detected and corrected, could prevent the jettisoning of a window, possibly affecting the evacuation of passengers in the event of an emergency situation,” EASA states.

FAA's Determination

These helicopters have been approved by the aviation authority of France and are approved for operation in the United States. Pursuant to our bilateral agreement with France, EASA, its technical representative, has notified us of the unsafe condition described in its AD. We are proposing this AD because we evaluated all known relevant information and determined that an unsafe condition is likely to exist or develop on other products of the same type design.

Related Service Information

Eurocopter issued Alert Service Bulletin (ASB) No. AS332-56.00.04 for Model AS332C, AS332C1, AS332L, AS332L1, and AS332L2 helicopters and ASB No. EC225-56A002 for the EC225LP helicopter, both dated August 8, 2012. Eurocopter advises of difficulties jettisoning the window panel when performing a jettison test due to sealant installed between the extrusion and the window. According to Eurocopter, jettison tests are to be performed every two years. The ASBs provide instructions to inspect each jettisonable window panel to determine whether there is sealant between the extrusion and the window.

Proposed AD Requirements

This proposed AD would require, within 110 hours time-in-service (TIS), visually inspecting each window for sealant between the extrusion and the window. If there is sealant, the AD would require removing the sealant.

Differences Between This Proposed AD and the EASA AD

The EASA AD applies to Model AS 332 C1 helicopters, and this proposed AD does not because that model is not FAA type-certificated. The EASA AD requires the inspection of each window within 110 hours TIS or six months, while this proposed AD requires the inspection within 110 hours TIS.

Costs of Compliance

We estimate that this proposed AD would affect 19 helicopters of U.S. Registry and that labor rates average $85 a work-hour. Based on these estimates, we expect the following costs:

• Visually inspecting the windows for sealant would require 1 work-hour for a labor cost of $85 per helicopter, and $1,615 for the U.S. fleet.

• If needed, removing the sealant from the windows would require 2 work-hours for a labor cost of $170 per window.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed, I certify this proposed regulation:

1. Is not a “significant regulatory action” under Executive Order 12866;

2. Is not a “significant rule” under the DOT Regulatory Policies and Procedures (44 FR 11034, February 26, 1979);

3. Will not affect intrastate aviation in Alaska to the extent that it justifies making a regulatory distinction; and

4. Will not have a significant economic impact, positive or negative, on a substantial number of small entities under the criteria of the Regulatory Flexibility Act.

We prepared an economic evaluation of the estimated costs to comply with this proposed AD and placed it in the AD docket.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

Eurocopter France Helicopters: Docket No. FAA-2013-0524; Directorate Identifier 2012-SW-084-AD.

(a) Applicability

This AD applies to Eurocopter France (Eurocopter) Model AS332C, AS332L, AS332L1, AS332L2 and EC225LP helicopters, certificated in any category, that have never undergone a window-jettison test.

(b) Unsafe Condition

This AD defines the unsafe condition as the presence of sealant on an emergency exit window panel. This condition could result in the window failing to jettison, preventing the helicopter occupants from exiting the aircraft during an emergency.

(c) Comments Due Date

We must receive comments by August 19, 2013.

(d) Compliance

You are responsible for performing each action required by this AD within the specified compliance time unless accomplished previously.

(e) Required Actions

Within 110 hours time-in-service (TIS), visually inspect each jettisonable emergency exit window panel (window) by doing the following:

(1) Lift the extrusion slightly using a flat tool that does not cause scoring.

(2) Inspect for sealant on the inside and outside of the window between the window and the extrusion and between the extrusion and the structure.

Note 1 to paragraph (e)(1)(2): The presence of a sealant bead on the extrusion parting lines, on the window pull-out seal parting lines, and on the pull-out straps is expected, as shown in Figure 1 of Eurocopter Alert Service Bulletin No. AS332-56.00.04 or ASB No. EC225-56A002, both dated August 8, 2012 (ASB), as appropriate for your model helicopter.

(3) If there is no sealant as shown in Photo 1 of Figure 2 of the ASB, no further action is required.

(4) If there is sealant between the structure and the profile as shown in Photo 2 of Figure 2 of the ASB or if you cannot determine whether there is sealant, remove the extrusion.

(5) Remove all sealant from the extrusion, the window, and the structure.

(6) If there is any crazing, cracking or other damage on the extrusion, replace with an airworthy extrusion.

(f) Alternative Methods of Compliance (AMOCs)

(1) The Manager, Safety Management Group, FAA, may approve AMOCs for this AD. Send your proposal to: Robert Grant, Aviation Safety Engineer, Safety Management Group, FAA, 2601 Meacham Blvd., Fort Worth, Texas 76137; telephone 817-222-5110; email robert.grant@faa.gov.

(2) For operations conducted under a 14 CFR part 119 operating certificate or under 14 CFR part 91, subpart K, we suggest that you notify your principal inspector, or lacking a principal inspector, the manager of the local flight standards district office or certificate holding district office before operating any aircraft complying with this AD through an AMOC.

(g) Additional Information

(1) Eurocopter ASB No. AS332-56.00.04 and ASB No. EC225-56A002, both dated August 8, 2012, contain additional information about the subject of this AD. For service information identified in this AD, contact American Eurocopter Corporation, 2701 N. Forum Drive, Grand Prairie, TX 75052; telephone (972) 641-0000 or (800) 232-0323; fax (972) 641-3775; or at http://www.eurocopter.com/techpub. You may review the referenced service information at the FAA, Office of the Regional Counsel, Southwest Region, 2601 Meacham Blvd., Room 663, Fort Worth, Texas 76137.

(2) The subject of this AD is addressed in European Aviation Safety Agency AD No. 2012-0152, dated August 13, 2012.

(h) Subject

Joint Aircraft Service Component (JASC) Code: 5220, Emergency Exits.

Issued in Fort Worth, Texas, on June 13, 2013.
Kim Smith,
Directorate Manager, Rotorcraft Directorate, Aircraft Certification Service.

[FR Doc. 2013-14701 Filed 6-19-13; 8:45 am]

BILLING CODE 4910-13-P